SOCIAL SECURITY ADMINISTRATION

[Docket No: SSA-2024-0023]

Agency Information Collection Activities: Proposed Request

The Social Security Administration (SSA) publishes a list of information collection packages requiring clearance by the Office of Management and Budget (OMB) in compliance with Public Law 104-13, the Paperwork Reduction Act of 1995, effective October 1, 1995. This notice includes one new collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2024-0023] in your submitted response.

The information collection below is pending at SSA. SSA will submit it to OMB within 60 days from the date of this notice. To be sure we consider your comments, we must receive them no later than August 26, 2024. Individuals can obtain copies of the collection instruments by writing to the above email address.

Transition Exploration Demonstration (TED)—0960-NEW

Background

SSA is requesting clearance to collect data necessary to evaluate the Transition Exploration Demonstration (TED) under the Interventional Cooperative Agreement Program (ICAP). SSA awarded its second set of cooperative agreements for ICAP on December 22, 2022. ICAP allows SSA to partner with various non-federal groups and organizations to advance interventional research connected to the Supplemental Security Income (SSI) and Social Security Disability Insurance (SSDI) programs. SSA awarded Mathematica a cooperative agreement to lead the Transition Exploration Demonstration (TED), which will help youth with disabilities transition successfully into the adult labor force and competitive, integrated employment.

In addition, Mathematica is partnering with the Pennsylvania Office of Vocational Rehabilitation (OVR) to recruit youth and deliver intervention services and the University of Maryland's Center for Transition and Career Innovation (UMD) to provide training and technical assistance to OVR.

TED Project Description

The Transition Exploration (TE) intervention is part of a broader effort by policymakers to identify new approaches to help potential beneficiaries and their families many of whom have low income, increase their incomes and self-sufficiency through work. The TE evaluation will assess the effect of TED services on employment and earnings; Supplemental Security Income (SSI) and Social Security Disability Insurance (SSDI) benefit receipt; satisfaction; and well-being. TED will include the following three components: (1) implementation analysis; (2) impact analysis; and (3) benefit cost analysis:

• Implementation Analysis: will yield critical information about the rollout and administration of TED, such as implications for the impact analysis and for developing relationships with community partners. Specifically, the implementation analysis will assess (1) whether the intervention was implemented as intended; (2) what successes and challenges were encountered during service delivery, and (3) how OVR developed new or stronger collaborative relationships with community partners.

• Impact Analysis: will leverage the experimental design to provide rigorous quantitative estimates of the effects of TED on the outcomes of enrollees. Because the study uses random assignment, the treatment and control group members will have similar observed and unobserved characteristics in statistical expectation when they enroll in the study. Hence, the evaluation's impact estimates will provide an unbiased assessment of whether the intervention can help youth with disabilities earn or work more, become less reliant on SSI or SSDI benefits, and experience greater satisfaction and well-being.

• Benefit-Cost Analysis: will assess whether the impacts of TED on enrollee outcomes are large enough to justify the resources required to produce them. By placing a dollar value on each benefit and cost of the intervention, a benefit-cost analysis can summarize in one statistic all the intervention's diverse impacts and cost.

TED will provide SSA with empirical evidence on the impact of the intervention on youth in several outcome areas: (1) employment and earnings; (2) SSI and SSDI benefit receipt; and (3) other related outcomes, such as satisfaction and well-being. A rigorous evaluation of TED is important to help SSA and other interested parties assess promising options to improve employment-related outcomes and decrease benefit receipts. Mathematica is directing TED and evaluating it via a randomized controlled trial.

OVR will recruit 700 youth into TED over a two-year period. Potential enrollees include all residents in the city of Philadelphia and the surrounding four counties in Pennsylvania (Bucks, Chester, Delaware, and Montgomery) ages 16 to 24 who qualify for vocational rehabilitation (VR) services; have never signed an individualized plan for employment with OVR; and are capable of giving informed consent or assent. Once enrolled, youth assigned to the control group will remain eligible for standard VR services and receive information about how to apply to OVR. Youth assigned to the treatment group will open a case with OVR and receive enhanced Transition Exploration (TE) services. Treatment group members will receive services from a specially trained OVR counselor called a Vocational Rehabilitation Counselor-TED (VRC-TED) for up to 12 months. Key enhanced services provided by a VRC-TED will include career goal development, referral to intensive training programs, referral to other employment-related resources, and intensive engagement and follow up. As part of the TE intervention, OVR will develop strong collaborative relationships with intensive training programs like Job Corps and Year Up to facilitate seamless referrals and cooperation. OVR will also provide counseling on SSI, SSDI, and other benefits with a goal of helping youth to access them temporarily while pursuing full-time work. The respondents are youth with disabilities who qualify and are selected by SSA to enroll in TED.

Modality of completion | Number of respondents | Frequency of response | Total number of respondents | Average burden per response (in minutes) | Total annual burden (hours) | Average theoretical hourly cost | Total annual opportunity cost
Informed consent form and release form | 700 | 1 | 700 | 10 | 117 | * $7.25 | ** $848
Baseline survey | 700 | 1 | 700 | 15 | 175 | * 7.25 | ** 1,269
12-month follow-up survey | 560 | 1 | 560 | 20 | 187 | * 7.25 | ** 1,356
Qualitative data collection with site staff | 18 | 2 | 36 | 68 | 41 | * 31.48 | ** 1,291
Qualitative data collection with treatment group members | 4 | 3 | 12 | 45 | 9 | * 7.25 | ** 65
Total | 1,982 |  | 2,008 |  | 529 |  | 42,829
* We based this figure on the average minimum wage, as reported by Pennsylvania's Current data at Department of Labor & Industry data (https://www.dli.pa.gov/Individuals/Labor-Management-Relations/llc/Pages/Wage-FAQs.aspx).
*** This figure does not represent actual costs that SSA is imposing on recipients of Social Security payments to complete this application; rather, these are theoretical opportunity costs for the additional time respondents will spend to complete the application. There is no actual charge to respondents to complete the application.

Dated: June 21, 2024.
Naomi Sipple,
Reports Clearance Officer, Social Security Administration.

[FR Doc. 2024-14025 Filed 6-25-24; 8:45 am]

BILLING CODE 4191-02-P